DEPARTMENT OF LABOR

Office of the Secretary

Submission for OMB Review: Comment Request

June 8, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Occupational Safety and Health Administration (OSHA), Office of Management and Budget, Room 10235, Washington, DC 20503, Telephone: 202-395-7316/Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Presence sensing device initiation (PSDI) (29 CFR 1910.217(h)).

OMB Number: 1218-0143.

Type of Response: Recordkeeping and Third-party Disclosure.

Affected Public: Public Sector: Business or other for-profits.

Number of Respondents: 1.

Number of Annual Responses: 1.

Estimated Time per Response: Varies by task.

Total Burden Hours: 1.

Total Annualized capital/startup costs: $0.

Total Annual Costs (operating/maintaining systems or purchasing services): $0.

Description: Paragraph 1910.217(h) regulates the use of presence sensing devices (“PSDs”) used to initiate the operation of mechanical power presses; a PSD (e.g., a photoelectric field or curtain) automatically stops the stroke of a mechanical power press when the device detects an operator entering a danger zone near the press. A mechanical power press using Presence Sensing Device Initiation (PSDI) automatically starts (initiates) the stroke when the device detects no operator within the danger zone near the press. The certification/validation of safety systems for PSDI shall consider the press, controls, safeguards, operator, and environment as an integrated system which shall comply with 29 CFR 1910.217(a) through (h).

Agency: Occupational Safety and Health Administration.

Type of Review: Extension without change of currently approved collection.

Title: Derricks (29 CFR 1910.181).

OMB Number: 1218-0222.

Type of Response: Recordkeeping and Third-party disclosure.

Affected Public: Public Sector: Business or other for-profits.

Number of Respondents: 500.

Number of Annual Responses: 7,757.

Estimated Time per Response: Varies by task.

Total Burden Hours: 1,356.

Total Annualized capital/startup costs: $0.

Total Annual Costs (operating/maintaining systems or purchasing services): $0.

Description: The paperwork provisions of the Standard specify requirements for marking the rated load on derricks, preparing certification records to verify the inspection of derrick ropes, and posting warning signs while the derrick is undergoing adjustments and repairs. Certification records must be maintained and disclosed upon request.

Agency: Occupational Safety and Health Administration.

Type of Review: Extension without change of currently approved collection.

Title: Additional Requirements for special dipping and coating operations (Dip Tanks) (29 CFR 1910.126(g)(4)).

OMB Number: 1218-0237.

Type of Response: Reporting and Third-party disclosure.

Affected Public: Public Sector: Business or other for-profits.

Number of Respondents: 1.

Number of Annual Responses: 1.

Estimated Time per Response: 1 hour.

Total Burden Hours: 1.

Total Annualized capital/startup costs: $0.

Total Annual Costs (operating/maintaining systems or purchasing services): $0.

Description: The standard on Additional Requirements for Special Dipping and Coating Operations, 29 CFR 1910.126(g)(4)), requires employers to post a conspicuous sign near each piece of electrostatic detearing equipment that notifies employees of the minimum safe distance they must maintain between goods undergoing electrostatic detearing and the electrodes or conductors of the equipment used in the process. Doing so reduces the likelihood of igniting the explosive chemicals used in electrostatic detearing operations.

Darrin A. King,
Acting Departmental Clearance Officer.

[FR Doc. E7-11497 Filed 6-13-07; 8:45 am]

BILLING CODE 4510-26-P